DEPARTMENT OF THE INTERIOR

National Park Service

[NPS-WASO-NAGPRA-14099; PPWOCRADN0-PCU00RP14.R50000]

Notice of Inventory Completion: Pima County Office of the Medical Examiner, Tucson, AZ

AGENCY: National Park Service, Interior.

ACTION: Notice.

SUMMARY: The Pima County Office of the Medical Examiner (hereafter referred to as PCOME) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the PCOME. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the PCOME at the address in this notice by December 2, 2013.

ADDRESSES: Dr. Bruce Anderson, Forensic Anthropologist, PCOME, Tucson, AZ 85714, telephone (520) 243-8600.

SUPPLEMENTARY INFORMATION: Notice is here given in accordance with the Native American Graves Protection and Repatriation Act (NAGPRA), 25 U.S.C. 3003, of the completion of an inventory of human remains and associated funerary objects under the control of the PCOME, Tucson, AZ. The human remains and associated funerary objects were removed from a location near the town of San Manuel, Pinal County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the PCOME professional staff in consultation with representatives of the Ak Chin Indian Community of the Maricopa (Ak Chin) Indian Reservation, Arizona; Fort McDowell Yavapai Nation, Arizona; Gila River Indian Community of the Gila River Indian Reservation, Arizona; Hopi Tribe of Arizona; Pascua Yaqui Tribe of Arizona; Salt River Pima-Maricopa Indian Community of the Salt River Reservation, Arizona; San Carlos Apache Tribe of the San Carlos Reservation, Arizona; Tohono O'odham Nation of Arizona; White Mountain Apache Tribe of the Fort Apache Reservation, Arizona; and the Zuni Tribe of the Zuni Reservation, New Mexico.

History and Description of the Remains

In 2009, human remains representing, at minimum, one individual were removed from a river wash near San Manuel in Pinal County, AZ. The remains were removed from the location by the Pinal County Sheriff's Office and were transferred to Pinal County Medical Examiner's Office for forensic analysis. The Pinal County Medical Examiner, Dr Rebecca Hsu, transferred the remains to the Pima County Office of the Medical Examiner for examination by a forensic anthropologist. Dr. Bruce Anderson, Forensic Anthropologist at the PCOME, examined the remains and determined them likely to be prehistoric and of Native American ancestry. The remains were designated with PCOME case number ML 09-01398. No known individuals were identified. No associated funerary objects are present.

In 2010, human remains representing, at minimum, one individual were removed from a river wash near San Manuel in Pinal County, AZ. The remains were removed from the location by the Pinal County Sheriff's Office and were transferred to Pinal County Medical Examiner's Office for forensic analysis. The Pinal County Medical Examiner, Dr. Rebecca Hsu, transferred the remains to the Pima County Office of the Medical Examiner for examination by a forensic anthropologist. Dr. Bruce Anderson, Forensic Anthropologist at the PCOME, examined the remains and determined them likely to be prehistoric and of Native American ancestry. The remains were designated with PCOME case number ML 10-02448. No known individuals were identified. The 387 associated funerary objects are all Olivia shell beads.

The human remains and associated funerary objects described in this notice were removed from a location within a 20 mile radius a known the prehistoric ruin, site BB:7:5. This site is a known Native American Hohokam ruin that was deemed such due to the discovery of Gila Polychrome pottery sherds, Conus and Olivia shell necklaces, and jackrabbit bone tube necklaces. The Hohokam geographical range is represented by the modern day Gila River Indian Community of the Gila River Indian Reservation, Arizona; Hopi Tribe of Arizona; Tohono O'odham Nation of Arizona; and the Zuni Tribe of the Zuni Reservation, New Mexico.

Determinations Made by the PCOME

Officials of the PCOME have determined that:

• Pursuant to 25 U.S.C. 3001(9), the human remains described in this notice represent the physical remains of at least two individuals of Native American ancestry.

• Pursuant to 25 U.S.C. 3001(3)(A), the 387 objects described in this notice are reasonably believed to have been placed with or near individual human remains at the time of death or later as part of the death rite or ceremony.

• Pursuant to 25 U.S.C. 3001(2), there is a relationship of shared group identity that can be reasonably traced between the Native American human remains and associated funerary objects and the Gila River Indian Community of the Gila River Indian Reservation, Arizona; Hopi Tribe of Arizona; Tohono O'odham Nation of Arizona; and the Zuni Tribe of the Zuni Reservation, New Mexico.

Additional Requestors and Disposition

Lineal descendants or representatives of any Indian tribe or Native Hawaiian organization not identified in this notice that wish to request transfer of control of these human remains and associated funerary objects should submit a written request with information in support of the request to Dr. Bruce Anderson, Pima County Office of the Medical Examiner, 2825 East District, Tucson, AZ 85714, telephone (520)-243-8600, by December 2, 2013. After that date, if no additional requestors have come forward, transfer of control of the human remains and associated funerary objects to the Gila River Indian Community of the Gila River Indian Community of the Gila River Indian Reservation, Arizona; Hopi Tribe of Arizona; Tohono O'odham Nation of Arizona; and the Zuni Tribe of the Zuni Reservation, New Mexico, may proceed.

The PCOME is responsible for notifying Ak Chin Indian Community of the Maricopa (Ak Chin) Indian Reservation, Arizona; Fort McDowell Yavapai Nation, Arizona; Gila River Indian Community of the Gila River Indian Reservation, Arizona; Hopi Tribe of Arizona; Pascua Yaqui Tribe of Arizona; Salt River Pima-Maricopa Indian Community of the Salt River Reservation, Arizona; San Carlos Apache Tribe of the San Carlos Reservation, Arizona; Tohono O'odham Nation of Arizona; White Mountain Apache Tribe of the Fort Apache Reservation, Arizona; and the Zuni Tribe of the Zuni Reservation, New Mexico, that this notice has been published.

Dated: September 16, 2013.
Sherry Hutt,
Manager, National NAGPRA Program.

[FR Doc. 2013-25978 Filed 10-30-13; 8:45 am]

BILLING CODE 4312-50-P